DEPARTMENT OF HEALTH AND HUMAN SERVICES

Centers for Disease Control and Prevention

[60Day-04-04KA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, or to send comments contact Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Process Evaluation of CDC's Youth Media Campaign—New—National Center for Chronic Disease Prevention and Health Promotion (NCCDPHP), Centers for Disease Control and Prevention (CDC).

Background: In FY 2001, Congress established the Youth Media Campaign at the Centers for Disease Control and Prevention (CDC). Specifically, the House Appropriations language said, “The Committee believes that, if we are to have a positive impact on the future health of the American population, we must change the behaviors of our children and young adults by reaching them with important health messages.” CDC's response to this mandate was to design and implement a mass media campaign based on social marketing principles that is focused on increasing physical activity levels in children ages 9 to 13. The Campaign is based on principles that have been shown to enhance success, including: designing messages based on research; testing messages with the intended audiences; involving young people in all aspects of Campaign planning and implementation; and enlisting the involvement and support of parents and other influencers. Evaluation of the campaign is occurring through various process and outcome measures.

Part of the campaign strategy is to develop materials for influencers and stakeholders. Influencers include teachers, coaches, and youth-serving organizations. Stakeholders include community leaders, corporate partners, and non-governmental organizations. Campaign planners are interested in understanding how effective the Campaign is in delivering the supporting message of regular youth physical activity to these multiple groups. This understanding will facilitate any strategy changes that may be necessary to increase the effectiveness of tools and resources to facilitate sustainability of the campaign.

The Youth Media Campaign plans to conduct a process evaluation with convenience samples drawn from Campaign promotional requests, Campaign Web site/inquiries and listservs. This process evaluation will examine the implementation of Campaign strategies, promotions, and tools through community partners that directly work with youth and adult influencers. This process includes gathering information from influencers and stakeholders through: in-person and telephone interviews; mail surveys; focus groups; Internet online surveys; bounce-back Web surveys with users of Web site; and feedback forms included in promotional kits. Surveys will be administered beginning in the winter of 2005 to adult influencers, community stakeholders, and partners.

The overall purpose of this process evaluation is to determine the extent to which the VERB campaign was implemented as planned, the challenges that occurred, and solutions to specific challenges. Data collected will assist campaign planners in refining campaign strategies and in developing materials. Additionally, the process evaluation will examine to what extent partnerships were formed and the effectiveness of the partnership activities. There are no costs to the respondents.

Annualized Burden Table
Respondents | Number of respondents | Number of responses per respondent | Average burden per response (in hrs.) | Total burden hours
Adult Influencers | 5,000 | 1 | 15/60 | 1,250
Community Stakeholders | 1,000 | 1 | 15/60 | 250
Focus Groups: Adult influencers | 100 | 1 | 1 | 100
Focus Groups: Community Stakeholders | 100 | 1 | 1 | 100
Total |  |  |  | 1,700

Dated: August 12, 2004.
Alvin Hall,
Director, Management Analysis and Services Office, Centers for Disease Control and Prevention.

[FR Doc. 04-19215 Filed 8-20-04; 8:45 am]

BILLING CODE 4163-18-P